DEPARTMENT OF THE TREASURY

Submission for OMB Review; Comment Request

May 30, 2000.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before July 10, 2000 to be assured of consideration.

Bureau of the Public Debt (PD)

OMB Number: 1535-0012.

Form Number: PD F 1455.

Type of Review: Extension.

Title: Request by Fiduciary for Reissue of United States Savings Bonds/Notes.

Description: PD F 1455 is use by fiduciary to request distribution of U.S. Savings Bonds/Notes to the person(s) entitled.

Respondents: Individuals or households.

Estimated Number of Respondents: 72,000.

Estimated Burden Hours Per Respondent: 30 minutes.

Frequency of Response: On occasion.

Estimated Total Reporting Burden Hours: 36,000 hours.

OMB Number: 1535-0025.

Form Number: PD F 3360.

Type of Review: Extension.

Title: Request for Reissue of United States Savings Bonds/Notes in the Name of a Person or Persons Other Than the Owner (Including Legal Guardian, Custodian for a Minor Under a Statute, etc.).

Description: This form is used by the owner to request reissue of Savings Bonds/Notes in the name of another person.

Respondents: Individuals or households.

Estimated Number of Respondents: 50,000.

Estimated Burden Hours Per Respondent: 10 minutes.

Frequency of Response: On occasion.

Estimated Total Reporting Burden Hours: 8,350 hours.

OMB Number: 1535-0032.

Form Number: PD F 3565.

Type of Review: Extension.

Title: Application for Disposition of Retirement Plan and/or Individual Retirement Bonds Without Administration of Deceased Owner's Estate.

Description: This form is used by heirs of deceased owners of Retirement Plan and/or Individual Retirement bonds to request disposition when no beneficiaries are designated.

Respondents: Individuals or households.

Estimated Number of Respondents: 50.

Estimated Burden Hours Per Respondent: 20 minutes.

Frequency of Response: On occasion.

Estimated Total Reporting Burden Hours: 17 hours.

OMB Number: 1535-0055.

Form Number: PD F 1050.

Type of Review: Extension.

Title: Creditor's Consent to Disposition of United States Securities and Related Checks Without Administration of Deceased Owner's Estate.

Description: This form is used to obtain creditor's consent to dispose of Savings Bonds/Notes in Settlement of a deceased owner's estate without administration.

Respondents: Business or other for-profit, individuals or households.

Estimated Number of Respondents: 3,000.

Estimated Burden Hours Per Respondent: 6 minutes.

Frequency of Response: On occasion.

Estimated Total Reporting Burden Hours: 300 hours.

OMB Number: 1535-0084.

Form Number: PD F 5263, PD F 5263-1, PD F 5374 and PD F 5374-1.

Type of Review: Extension.

Title: Order for Series EE U.S. Savings Bonds (PD F 5263); Order for Series EE U.S. Savings Bonds to be Registered in Name of Fiduciary (PD F 5263-1); Series I Order for U.S. Savings Bonds (PD F 5374); and Series I Order for U.S. Savings Bonds to be Registered in Name of Fiduciary (PD F 5374-1).

Description: These forms are completed by the purchaser to issue United States Savings Bonds.

Respondents: Individuals or households.

Estimated Number of Respondents: 10,000,000.

Estimated Burden Hours Per Respondent: 5 minutes per form.

Frequency of Response: On occasion.

Estimated Total Reporting Burden Hours: 830,000 hours.

OMB Number: 1535-0102.

Form Number: PD F 1071.

Type of Review: Extension.

Title: Certificate of Ownership of United States Bearer Securities.

Description: PD F 1071 is used to establish ownership and support of a request for payment.

Respondents: Individuals or households, business or other for-profit.

Estimated Number of Respondents: 1,000.

Estimated Burden Hours Per Respondent: 30 minutes.

Frequency of Response: On occasion.

Estimated Total Reporting Burden Hours: 500 hours.

OMB Number: 1535-0126.

Form Number: PD F 3871.

Type of Review: Extension.

Title: Application for Issue of United States Mortgage Guaranty Insurance Company tax and Loss Bonds.

Description: PD F 3871 is submitted by companies engaged in the business of writing mortgage guaranty insurance for the purpose of purchasing “Tax and Loss” bonds.

Respondents: Business or other for-profit.

Estimated Number of Respondents: 37.

Estimated Burden Hours Per Respondent: 15 minutes.

Frequency of Response: On occasion.

Estimated Total Reporting Burden Hours: 20 hours.

Clearance Officer: Vicki S. Thorpe (304) 480-6553, Bureau of the Public Debt, 200 Third Street, Parkersburg, West VA 26106-1328.

OMB Reviewer: Alexander T. Hunt (202) 395-7860, Office of Management and Budget, Room 10226, New Executive Office Building, Washington, DC 20503.

Lois K. Holland,
Departmental Reports Management Officer.

[FR Doc. 00-14410 Filed 6-7-00; 8:45 am]

BILLING CODE 4810-40-P